DEPARTMENT OF COMMERCE

International Trade Administration

[A-570-904]

Certain Activated Carbon From the People's Republic of China: Final Results of Antidumping Duty Administrative Review; and Final Determination of No Shipments; 2020-2021

AGENCY: Enforcement and Compliance, International Trade Administration, Department of Commerce.

SUMMARY: The U.S. Department of Commerce (Commerce) determines that Jilin Bright Future Chemicals Co., Ltd. (Jilin Bright) sold certain activated carbon from the People's Republic of China (China) at less than normal value during the period of review (POR), April 1, 2020, through March 31, 2021. Commerce also determines that Datong Juqiang Activated Carbon Co., Ltd. (Datong Juqiang) did not make sales of subject merchandise at less than normal value during the POR. Commerce further determines that certain companies made no shipments of the subject merchandise during the POR.

DATES: Applicable November 9, 2022.

FOR FURTHER INFORMATION CONTACT: Jinny Ahn or Zachariah Hall, AD/CVD Operations, Office VIII, Enforcement and Compliance, International Trade Administration, Department of Commerce, 1401 Constitution Avenue NW, Washington, DC 20230; telephone: (202) 482-0339 or (202) 482-6261, respectively.

SUPPLEMENTARY INFORMATION:

Background

On May 6, 2022, Commerce published the Preliminary Results.¹ For events subsequent to the Preliminary Results, see the Issues and Decision Memorandum.² On August 3, 2022,³ in accordance with section 751(a)(3)(A) of the Tariff Act of 1930, as amended (the Act), Commerce extended the deadline for issuing the final results until November 2, 2022.

¹ See Certain Activated Carbon from the People's Republic of China: Preliminary Results of Antidumping Duty Administrative Review, Preliminary Determination of No Shipments; 2020-2021, 87 FR 27094 (May 6, 2022) (Preliminary Results), and accompanying Preliminary Decision Memorandum (PDM).

² See Memorandum, “Certain Activated Carbon from the People's Republic of China: Issues and Decision Memorandum for the Final Results of the Fourteenth Antidumping Duty Administrative Review,” dated concurrently with, and hereby adopted by, this notice (Issues and Decision Memorandum).

³ See Memorandum, “Activated Carbon from the People's Republic of China: Extension of Deadline for Final Results of the 2020-2021 Antidumping Duty Administrative Review,” dated August 3, 2022.

Scope of the Order ⁴

⁴ See Notice of Antidumping Duty Order: Certain Activated Carbon from the People's Republic of China, 72 FR 20988 (April 27, 2007) (Order).

The merchandise subject to the Order is certain activated carbon. A full description of the scope of the Order is contained in the Issues and Decision Memorandum.

Analysis of Comments Received

All issues raised by interested parties in briefs are addressed in the Issues and Decision Memorandum. A list of the issues addressed in the Issues and Decision Memorandum is provided in Appendix I to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our review of the record and comments received from interested parties regarding our Preliminary Results, we made certain revisions to the margin calculations for Datong Juqiang ⁵ and Jilin Bright,⁶ and consequently, to the rate assigned to the non-examined, separate rate respondents.⁷

⁵ See Memoranda, “Antidumping Duty Administrative Review of Certain Activated Carbon the People's Republic of China: Final Results Calculation Memorandum for Datong Juqiang Activated Carbon Co., Ltd.,” dated concurrently with this notice (Datong Juqiang's Final Calculation Memorandum); and “Fourteenth Administrative Review of Certain Activated Carbon from the People's Republic of China: Surrogate Values for the Final Results,” dated concurrently with this notice.

⁶ See Memorandum, “Antidumping Duty Administrative Review of Certain Activated Carbon the People's Republic of China: Final Results Calculation Memorandum for Jilin Bright Future Chemicals Co., Ltd.,” dated concurrently with this notice (Jilin Bright's Final Calculation Memorandum).

⁷ For details on the changes made since the Preliminary Results, see the Issues and Decision Memorandum.

Final Determination of No Shipments

In the Preliminary Results, we preliminarily determined that Beijing Pacific Activated Carbon Products Co., Ltd.; Shanxi Dapu International Trade Co., Ltd.; and Tianjin Channel Filters Co., Ltd. had no shipments of subject merchandise to the United States during the POR.⁸ No party filed comments with respect to this preliminary determination and we received no information to contradict it. Therefore, we continue to find that these companies had no shipments of subject merchandise during the POR and will issue appropriate liquidation instructions that are consistent with our “automatic assessment” clarification for these final results.⁹

⁸ See Preliminary Results, 87 FR at 27094.

⁹ See Non-Market Economy Antidumping Proceedings: Assessment of Antidumping Duties, 76 FR 65694 (October 24, 2011) (Assessment Practice Refinement).

Separate Rate Respondents

In our Preliminary Results, we determined that Datong Juqiang, Jilin Bright, and eight other companies demonstrated their eligibility for separate rates.¹⁰ We received no arguments since the issuance of the Preliminary Results that provide a basis for reconsideration of these determinations. Therefore, for these final results, we continue to find that the ten companies listed in the table in the “Final Results” section of this notice are each eligible for a separate rate.

¹⁰ See Preliminary Results PDM at 5-9.

Rate for Non-Examined Separate Rate Respondents

In the Preliminary Results,¹¹ and consistent with Commerce's practice,¹² we assigned the non-examined, separate rate companies a rate equal to the calculated weighted-average dumping margin for the mandatory respondent whose rate was not zero, de minimis (i.e., less than 0.5 percent), or based entirely on facts available (i.e., the weighted-average dumping margin for Jilin Bright). No parties commented on the methodology for calculating this separate rate. For the final results, we continue to apply this approach, as it is consistent with the intent of, and our use of, section 735(c)(5)(A) of the Act.¹³

¹¹ Id. at 10-11.

¹² See, e.g., Certain Kitchen Appliance Shelving and Racks from the People's Republic of China: Final Determination of Sales at Less Than Fair Value, 74 FR 36656, 36660 (July 24, 2009).

¹³ See Certain Frozen Warmwater Shrimp from the Socialist Republic of Vietnam: Final Results and Final Partial Rescission of Antidumping Duty Administrative Review, 76 FR 56158, 56160 (September 12, 2011).

¹⁴ In the second administrative review of the Order, Commerce determined that it would calculate per-unit weighted-average dumping margins and assessment rates for all future reviews. See Certain Activated Carbon from the People's Republic of China: Final Results and Partial Rescission of Second Antidumping Duty Administrative Review, 75 FR 70208, 70211 (November 17, 2010) (Carbon from China AR2), and accompanying Issues and Decision Memorandum (IDM) at Comment 3.

¹⁵ This is the rate applicable to the non-examined separate rate respondents, as discussed above.

¹⁶ In a changed circumstances review of the Order, Commerce found that Ningxia Huahui Environmental Technology Co., Ltd. is the successor-in-interest to Ningxia Huahui Activated Carbon Co. Ltd. (Ningxia Huahui), and should be assigned the same antidumping duty (AD) cash deposit rate assigned to Ningxia Huahui for purposes of determining AD liability in this proceeding. See Certain Activated Carbon from the People's Republic of China: Notice of Final Results of Antidumping Duty Changed Circumstances Review, 86 FR 64184 (November 17, 2021). Therefore, for these final results, we have assigned the same AD rate for cash deposit purposes to Ningxia Huahui Environmental Technology Co., Ltd. as the rate assigned to Ningxia Huahui for assessment purposes.

Final Results of Review

For companies subject to this review, which established their eligibility for a separate rate, Commerce determines that the following weighted-average dumping margins exist for the period from April 1, 2020, through March 31, 2021:

Exporters | Weighted- average dumping margin (USD/kg) ¹⁴
Datong Juqiang Activated Carbon Co., Ltd | 0.00
Jilin Bright Future Chemicals Co., Ltd | 0.62
Review-Specific Rate Applicable to the Following Companies: ¹⁵
Carbon Activated Tianjin Co., Ltd | 0.62
Datong Municipal Yunguang Activated Carbon Co., Ltd | 0.62
Ningxia Guanghua Cherishmet Activated Carbon Co., Ltd | 0.62
Ningxia Huahui Environmental Technology Co., Ltd. (formerly Ningxia Huahui Activated Carbon Co., Ltd.) ¹⁶ | 0.62
Ningxia Mineral & Chemical Limited | 0.62
Shanxi Industry Technology Trading Co., Ltd | 0.62
Shanxi Sincere Industrial Co., Ltd | 0.62
Tancarb Activated Carbon Co., Ltd | 0.62

In the Preliminary Results, Commerce found that six companies for which a review was requested ¹⁷ did not establish eligibility for a separate rate because they did not file a timely separate rate application or a separate rate certification, as appropriate.¹⁸ No party except Jacobi ¹⁹ commented on Commerce's Preliminary Results with respect to separate rates. With respect to Jacobi,²⁰ we made no changes to our Preliminary Results.²¹ Therefore, for these final results, we determine the six companies identified in Appendix II to be part of the China-wide entity. Because no party requested a review of the China-wide entity, and Commerce no longer considers the China-wide entity as an exporter conditionally subject to administrative reviews,²² we did not conduct a review of the China-wide entity. Thus, the weighted-average dumping margin for the China-wide entity (i.e., 2.42 USD/kg) ²³ is not subject to change as a result of this review.

¹⁷ See Appendix II of this notice for a full list of the six companies.

¹⁸ See Preliminary Results PDM at 9. The total number of company names for which Commerce initiated this administrative review is 20. Three of those companies submitted timely no shipment certifications, two of those companies are the mandatory respondents, and eight companies are separate rate applicants. Commerce notes that two of the company names for which Commerce initiated this review are different name variations of the same company (i.e., Ningxia Mineral & Chemical Limited; and Ningxia Mineral & Chemical Ltd.), and therefore, were treated as the same company for purposes of this review. See Initiation of Antidumping and Countervailing Duty Administrative Reviews, 86 FR 31282, 31289 (June 11, 2021). Further, Commerce notes that Jacobi was included among the six companies that Commerce preliminarily found did not establish eligibility for a separate rate, because Jacobi submitted its no-shipment certification past the deadline of July 12, 2021, and Commerce rejected the certification as untimely. See Preliminary Results PDM at 4.

¹⁹ See Jacobi's Letter, “Jacobi's Case Brief,” dated July 8, 2022.

²⁰ In the third administrative review of the Order, Commerce found that Jacobi Carbons AB, Tianjin Jacobi International Trading Co. Ltd. (Tianjin Jacobi), and Jacobi Carbons Industry (Tianjin) (Jacobi Carbons) (collectively, Jacobi) should be treated as a single entity, and because there were no facts presented on the record of this review which would call into question our prior finding, we continue to treat these companies as part of a single entity for this administrative review, pursuant to sections 771(33)(E), (F), and (G) of the Act, and 19 CFR 351.401(f). See Certain Activated Carbon from the People's Republic of China: Final Results and Partial Rescission of Third Antidumping Duty Administrative Review, 76 FR 67142, 67145, n.25 (October 31, 2011). Further, in a changed circumstances review of the Order, Commerce determined that Jacobi should be collapsed with its new wholly-owned Chinese affiliate, Jacobi Adsorbent Materials (JAM), and the single entity, inclusive of JAM, should be assigned the same AD cash deposit rate assigned to Jacobi for purposes of determining AD liability in this proceeding. See Certain Activated Carbon from the People's Republic of China: Notice of Final Results of Antidumping Duty Changed Circumstances Review, 86 FR 58874 (October 25, 2021). Therefore, for these final results, we have assigned the new Jacobi single entity, inclusive of JAM, the same AD rate for cash deposit purposes as the rate assigned to Jacobi (i.e., the China-wide rate (2.42 U.S. Dollars (USD)/kilogram (kg))) for purposes of cash deposit and assessment purposes.

²¹ See Issues and Decision Memorandum at Comment 11 for further discussion.

²² See Antidumping Proceedings: Announcement of Change in Department Practice for Respondent Selection in Antidumping Duty Proceedings and Conditional Review of the Nonmarket Economy Entity in NME Antidumping Duty Proceedings, 78 FR 65963, 65969-70 (November 4, 2013).

²³ See, e.g., Certain Activated Carbon from the People's Republic of China: Final Results of Antidumping Duty Administrative Review; 2012-2013, 79 FR 70163, 70165 (November 25, 2014).

Assessment Rates

Pursuant to section 751(a)(2)(C) of the Act and 19 CFR 351.212(b), Commerce has determined, and U.S Customs and Border Protection (CBP) shall assess, ADs on all appropriate entries covered by this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

For the individually-examined respondent in this review which has a final weighted-average dumping margin that is not zero or de minimis (i.e., less than 0.5 percent), we will calculate importer- (or customer-) specific per-unit duty assessment rates based on the ratio of the total amount of dumping calculated for the importer's (or customer's) examined sales to the total sales quantity associated with those sales, in accordance with 19 CFR 351.212(b)(1).²⁴ We will also calculate (estimated) ad valorem importer-specific assessment rates with which to determine whether the per-unit assessment rates are de minimis.²⁵ Where either a respondent's weighted-average dumping margin is zero or de minimis, or an importer- (or customer-) specific assessment rate is zero or de minimis, we will instruct CBP to liquidate the appropriate entries without regard to ADs.²⁶

²⁴ See Carbon from China AR2 IDM at Comment 3.

²⁵ For calculated (estimated) ad valorem importer-specific assessment rates used in determining whether the per-unit assessment rates are de minimis, see Datong Juqiang's Final Calculation Memorandum and Jilin Bright's Final Calculation Memorandum, and attached Margin Calculation Program Logs and Outputs.

²⁶ See 19 CFR 351.106(c)(2).

For the respondents which were not selected for individual examination in this administrative review and which qualified for a separate rate, the assessment rate will be equal to the rate assigned to them for the final results (i.e., 0.62 USD/kg). For the companies identified as part of the China-wide entity, we will instruct CBP to apply a per-unit assessment rate of 2.42 USD/kg to all entries of subject merchandise during the POR which were exported by those companies. Pursuant to a refinement in our non-market economy practice, for sales that were not reported in the U.S. sales data submitted by companies individually examined during this review, we will instruct CBP to liquidate entries associated with those sales at the rate for the China-wide entity. Furthermore, where we found that an exporter under review had no shipments of the subject merchandise, any suspended entries that entered under that exporter's case number (i.e., at that exporter's cash deposit rate) will be liquidated at the rate for the China-wide entity.²⁷

²⁷ For a full discussion of this practice, see Assessment Practice Refinement, 76 FR at 65694.

Cash Deposit Requirements

The following per-unit cash deposit requirements will be effective upon publication of the final results of this administrative review for all shipments of the subject merchandise from China entered, or withdrawn from warehouse, for consumption on or after the publication date, as provided by section 751(a)(2)(C) of the Act: (1) for Datong Juqiang, Jilin Bright, and the non-examined separate rate respondents, the cash deposit rate will be equal to their weighted-average dumping margins established in the final results of this review; (2) for previously investigated or reviewed Chinese and non-Chinese exporters not listed above that have separate rates, the cash deposit rate will continue to be the exporter-specific rate published for the most recently completed segment of this proceeding in which they were reviewed; (3) for all Chinese exporters of subject merchandise that have not been found to be entitled to a separate rate, the cash deposit rate will be equal to the weighted-average dumping margin for the China-wide entity (i.e., 2.42 USD/kg); and (4) for all non-Chinese exporters of subject merchandise which have not received their own separate rate, the cash deposit rate will be the rate applicable to the Chinese exporter(s) that supplied that non-Chinese exporter. These per-unit cash deposit requirements, when imposed, shall remain in effect until further notice.

Disclosure

We intend to disclose the calculations performed to parties in this proceeding within five days of the date of publication of this notice in accordance with 19 CFR 351.224(b).

Notification to Importers Regarding the Reimbursement of Duties

This notice also serves as a final reminder to importers of their responsibility under 19 CFR 351.402(f)(2) to file a certificate regarding the reimbursement of antidumping and/or countervailing duties prior to liquidation of the relevant entries during this POR. Failure to comply with this requirement could result in Commerce's presumption that reimbursement of antidumping and/or countervailing duties has occurred and the subsequent assessment of double antidumping duties.

Administrative Protective Order (APO)

This notice also serves as a reminder to parties subject to an APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

We are issuing and publishing these final results of administrative review and notice in accordance with sections 751(a)(1) and 777(i) of the Act.

Dated: November 2, 2022.
Lisa W. Wang,
Assistant Secretary for Enforcement and Compliance.

Appendix I

List of Topics Discussed in the Issues and Decision Memorandum

I. Summary

II. Background

III. Scope of the Order

IV. Changes Since the Preliminary Results

V. Discussion of the Issues

Comment 1: Adjustment of Datong Juqiang's U.S. Price

Comment 2: By-Product Offset

Comment 3: Adjustment of DJAC USA's Reported Indirect Selling Expense (ISE) Ratio

Comment 4: Bituminous Coal Surrogate Value (SV)

Comment 5: Coal Tar SV

Comment 6: Selection of Surrogate Financial Statements and Calculation of Surrogate Financial Ratios

Comment 7: Foreign Inland Freight SV

Comment 8: Deduction of Unrefunded or Irrecoverable Value-Added Tax (VAT) from U.S. Price

Comment 9: Steam SV

Comment 10: Hydrochloric Acid SV

Comment 11: Treatment of Jacobi's No-Shipment Certification

VI. Recommendation

Appendix II

Companies Not Eligible for a Separate Rate and Treated as Part of the China-Wide Entity

1. Jacobi Carbons AB/Tianjin Jacobi International Trade Co., Ltd./Jacobi Carbons Industry (Tianjin) Co., Ltd./Jacobi Adsorbent Materials

2. Meadwestvaco Trading (Shanghai)

3. Shanxi DMD Corp.

4. Shanxi Tianxi Purification Filter Co., Ltd.

5. Sinoacarbon International Trading Co., Ltd.

6. Tianjin Maijin Industries Co., Ltd.

[FR Doc. 2022-24466 Filed 11-8-22; 8:45 am]

BILLING CODE 3510-DS-P